DEPARTMENT OF TRANSPORTATION

Office of the Secretary

Aviation Proceedings, Agreements filed the week ending May 25, 2013

The following Agreements were filed with the Department of Transportation under the Sections 412 and 414 of the Federal Aviation Act, as amended (49 U.S.C. 1382 and 1384) and procedures governing proceedings to enforce these provisions. Answers may be filed within 21 days after the filing of the application.

Docket Number: DOT-OST-2012-0121.

Date Filed: May 22, 2013.

Parties: Members of the International Air Transport Association.

Subject: Recommended Practice 1630, Recommended Practice 1670, CSC/Meet/007/2013 dated 17 May 2013, Intended effective date: 1 July 2013.

Barbara J. Hairston,
Acting Program Manager, Docket Operations, Federal Register Liaison.

[FR Doc. 2013-15749 Filed 6-28-13; 8:45 am]

BILLING CODE 4910-9X-P